SMALL BUSINESS ADMINISTRATION

[Disaster Declaration #20320 and #20321; TEXAS Disaster Number TX-20010]

Presidential Declaration Amendment of a Major Disaster for the State of Texas

AGENCY: U.S. Small Business Administration.

ACTION: Amendment 5.

SUMMARY: This is an amendment of the Presidential declaration of a major disaster for the State of Texas (FEMA-4781-DR), dated 05/17/2024.

Incident: Severe Storms, Straight-line Winds, Tornadoes, and Flooding.

Incident Period: 04/26/2024 and continuing.

DATES: Issued on 06/04/2024.

Physical Loan Application Deadline Date: 07/16/2024.

Economic Injury (EIDL) Loan Application Deadline Date: 02/18/2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for the State of Texas, dated 05/17/2024, is hereby amended to include the following areas as adversely affected by the disaster:

Primary Counties (Physical Damage and Economic Injury Loans): Austin, Dallas, Hockley, Kaufman, Newton.

Contiguous Counties (Economic Injury Loans Only):

Texas: Bailey, Cochran, Colorado, Fayette, Hale, Lamb, Lubbock, Lynn, Terry, Wharton, Yoakum

Louisiana: Sabine, Vernon

All other information in the original declaration remains unchanged.

(Catalog of Federal Domestic Assistance Number 59008)

Francisco Sánchez, Jr.,
Associate Administrator, Office of Disaster Recovery & Resilience.

[FR Doc. 2024-12799 Filed 6-11-24; 8:45 am]

BILLING CODE 8026-09-P